FEDERAL COMMUNICATIONS COMMISSION

Notice of Public Information Collection(s) Being Reviewed by the Federal Communications Commission for Extension Under Delegated Authority, Comments Requested.

August 8, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 16, 2000. If you anticipate that you will be submitting comments, but find it difficult to do so within the period of time allowed by this notice, you should advise the contact listed below as soon as possible.

ADDRESSES: Direct all comments to Les Smith, Federal Communications Commissions, Room 1 A-804, 445 Twelfth Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-0202.

Title: Section 87.37 Developmental license.

Form No.: N/A.

Type of Review: Extension of existing collection.

Respondents: Businesses or other for-profit, individuals or households, state, local or tribal government, not-for-profit institutions.

Number of Respondents: 12.

Estimated Time Per Response: 8 hours per response.

Total Annual Burden: 96 hours.

Needs and Uses: The information collection requirement contained in Section 87.37 is needed to gather data on developmental programs for which a developmental authorization was granted to determine whether the developmental authorization should be renewed or whether to initiate proceedings to include such operations within the normal scope of the Aviation Services. If the information was not collected the value of developmental programs in the Aviation Service would be severely limited.

OMB Approval Number: 3060-0222.

Title: Section 97.213 Remote control of a station.

Form No.: N/A.

Type of Review: Extension of existing collection.

Respondents: Individuals or households.

Number of Respondents: 500.

Estimated Time Per Response: .2 hour per response.

Total Annual Burden: 100 hours.

Needs and Uses: The recordkeeping requirement in Section 97.213 consist of posting a photocopy of the station license, a label with the name, address and telephone number of the station licensee, and the name of at least one authorized control operator. The requirement is necessary so that quick resolution of any harmful interference problems can be achieved and to ensure that the station is operating in accordance with the Communications Act of 1934, as amended.

OMB Approval Number: 3060-0259.

Title: Section 90.263 Substitution of frequencies below 25 MHz.

Form No.: N/A.

Type of Review: Extension of existing collection.

Respondents: Businesses or other for-profit, state, local or tribal government.

Number of Respondents: 60.

Estimated Time Per Response: .5 hour per response.

Total Annual Burden: 30 hours.

Needs and Uses: The information collection requirement contained in Section 90.263 is needed to require applicants to provide a supplemental information showing that the proposed use of frequencies below 25 MHz are needed from a safety standpoint and that frequencies above 25 MHz will not meet the operational needs of the applicant. The information is used to evaluate the applicant's need for such frequencies and the interference potential to other stations operating on the proposed frequencies.

OMB Approval Number: 3060-0264.

Title: Section 80.413 On-board station equipment records.

Form No.: N/A.

Type of Review: Extension of existing collection.

Respondents: Businesses or other for-profit, individuals or households, state, local or tribal government, not-for-profit institutions.

Number of Respondents: 1,000.

Estimated Time Per Response: 2 hours per response.

Total Annual Burden: 2,000 hours.

Needs and Uses: The recordkeeping requirement contained in Section 80.413 is needed to demonstrate that all on-board repeaters and transmitters are properly operating pursuant to a station authorization issued by the FCC. The information is used by FCC Compliance and Information Bureau personnel during inspections and investigations to determine what mobile units and repeaters are associated with on-board stations aboard a particular vessel.

OMB Approval Number: 3060-0297.

Title: Section 80.503 Cooperative use of facilities.

Form No.: N/A.

Type of Review: Extension of existing collection.

Respondents: Businesses or other for-profit, individuals or households, state, local or tribal government, not-for-profit institutions.

Number of Respondents: 100.

Estimated Time Per Response: 16 hours per response.

Total Annual Burden: 1,600 hours.

Needs and Uses: The recordkeeping requirements contained in Section 80.503 are needed to ensure licensees which share private facilities operate within the specified scope of service, on a non-profit basis, and do not function as communications common carriers providing ship-shore public correspondence services. The information is used by FCC Compliance and Information Bureau personnel during inspection and investigations to insure compliance with applicable rules.

Federal Communications Commission.
Magalie Roman Salas,
Secretary.

[FR Doc. 00-20788 Filed 8-15-00; 8:45 am]

BILLING CODE 6712-01-U